DEPARTMENT OF EDUCATION

National Institute on Disability and Rehabilitation Research; Proposed Funding Priorities for FY 2001-2003

AGENCY: Office of Special Education and Rehabilitative Services, Department of Education.

ACTION: Notice of proposed funding priorities for Fiscal Years (FY) 2001-2003 for two rehabilitation engineering research centers.

SUMMARY: We propose funding priorities for one Rehabilitation and Engineering Research Program (RERC) on Technology for Successful Aging and one RERC on Transportation Safety under the National Institute on Disability and Rehabilitation Research (NIDRR) for FY 2001-2003. We may use these priorities for competitions in FY 2001 and later years. We take this action to focus research attention on areas of national need. We intend these priorities to improve the rehabilitation services and outcomes for individuals with disabilities.

DATES: We must receive your comments on or before May 10, 2001.

ADDRESSES: All comments concerning these proposed priorities should be addressed to Donna Nangle, U.S. Department of Education, 400 Maryland Avenue, S.W., room 3414, Switzer Building, Washington, D.C. 20202-2645. Comments may also be sent through the Internet: donna_nangle@ed.gov

FOR FURTHER INFORMATION CONTACT: Donna Nangle. Telephone: (202) 205-5880. Individuals who use a telecommunications device for the deaf (TDD) may call the TDD number at (202) 205-4475.

Individuals with disabilities may obtain this document in an alternative format (e.g., Braille, large print, audiotape, or computer diskette) on request to the contact person listed in the preceding paragraph.

SUPPLEMENTARY INFORMATION:

Invitation To comment

We invite you to submit comments regarding these proposed priorities.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these priorities in Room 3414, Switzer Building, 330 C Street SW., Washington, D.C., between the hours of 8 a.m. and 4 p.m., Eastern time, Monday through Friday of each week except Federal holidays.

Assistance to Individuals With Disabilities in Reviewing the Rulemaking Record

On request, we will supply an appropriate aid, such as a reader or print magnifier, to an individual with a disability that needs assistance to review the comments or other documents in the public rulemaking record for these proposed priorities. If you want to schedule an appointment for this type of aid, you may call (202) 205-8113 or (202) 260-9895. If you use a TDD, you may call the Federal Information Relay Service at 1-800-877-8339.

National Education Goals

These proposed priorities will address the National Education Goal that every adult American will be literate and will possess the knowledge and skills necessary to compete in a global economy and exercise the rights and responsibilities of citizenship.

The authority for the program to establish research priorities by reserving funds to support particular research activities is contained in sections 202(g) and 204 of the Rehabilitation Act of 1973, as amended (29 U.S.C. 762(g) and 764(b)(4)). Regulations governing this program are found in 34 CFR part 350.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice published in the Federal Register. When inviting applications we designate each priority as absolute, competitive preference, or invitational.

The proposed priorities refer to NIDRR's Long-Range Plan that can be accessed on the World Wide Web at: (http://www.ed.gov/offices/OSERS/NIDRR/#LRP).

Rehabilitation Engineering Research Centers Program

The authority for RERCs is contained in section 204(b)(3) of the Rehabilitation Act of 1973, as amended (29 U.S.C. 764(b)(3)). The Assistant Secretary may make awards for up to 60 months through grants or cooperative agreements to public and private agencies and organizations, including institutions of higher education, Indian tribes, and tribal organizations, to conduct research, demonstration, and training activities regarding rehabilitation technology in order to enhance opportunities for meeting the needs of, and addressing the barriers confronted by, individuals with disabilities in all aspects of their lives. An RERC must be operated by or in collaboration with an institution of higher education or a nonprofit organization.

Description of Rehabilitation Engineering Research Centers

RERCs carry out research or demonstration activities by:

(a) Developing and disseminating innovative methods of applying advanced technology, scientific achievement, and psychological and social knowledge to (1) solve rehabilitation problems and remove environmental barriers, and (2) study new or emerging technologies, products, or environments;

(b) Demonstrating and disseminating (1) innovative models for the delivery of cost-effective rehabilitation technology services to rural and urban areas, and (2) other scientific research to assist in meeting the employment and independent living needs of individuals with severe disabilities; or

(c) Facilitating service delivery systems change through (1) the development, evaluation, and dissemination of consumer-responsive and individual and family-centered innovative models for the delivery to both rural and urban areas of innovative cost-effective rehabilitation technology services, and (2) Other scientific research to assist in meeting the employment and independent needs of individuals with severe disabilities.

Each RERC must provide training opportunities to individuals, including individuals with disabilities, to become researchers of rehabilitation technology and practitioners of rehabilitation technology in conjunction with institutions of higher education and nonprofit organizations.

Proposed Priority 1: RERC on Technology for Successful Aging

Background

Americans are living longer, and because of this demographic revolution the landscape of disability is also changing. Since 1900, average life expectancy has increased dramatically from less than 50 years of age to approximately 76 years, and centenarians now represent the fastest growing age group in the United States (Bureau of the Census, “Current Population Reports,” pgs. 70-73, 1993). During this same time period, the percentage of Americans who are 65 years or older has more than tripled (from 4.1% in 1900 to 12.7% in 1999) and the actual number increased eleven times from 3.1 million to 34.5 million. This number is expected to double by the year 2030 (Administration on Aging, “Profile of Older Americans, 2000,”: http://www.aoa.dhhs.gov/aoa/stats/profile/).

In 1994-1995 more than half of those 65 and older (52.5%) reported having at least one disability and it is estimated that one-third of this population has a severe disability. Over 4.4 million (14%) have difficulty in carrying out activities of daily living (ADLs), which includes bathing, dressing, eating, and getting around the house, and 6.5 million (21%) reported difficulty in carrying out instrumental activities of daily living (IADLs) such as preparing of meals, shopping, managing money, using the telephone, doing housework, and taking medication. However, despite the increased risks of disability associated with aging, ninety-five percent of older Americans choose to remain in their own homes, use public services and function independently as they age (Current Population Reports, “Americans with Disabilities, 1994-1995,” http://www.census.gov/main/cprs.html).

Although there are many similarities between younger and older persons with disabilities (e.g., the goal of independent living), there are also important differences. Younger persons with disabilities are much more likely to experience impairment or disability in only one area (e.g., cognitive, hearing, vision, or mobility), whereas older persons tend to have multiple chronic conditions, presenting a mix of symptoms, impairments, and functional limitations. Older persons with disabilities also differ from their younger counterparts in that they are predominantly female, have lower income, and have a smaller network of social support.

As the baby boomer generation ages, the challenge for policymakers and industry is to fully leverage advances in information, communications, sensors, advanced materials, lighting, and many other technologies to optimize existing public and private investments and to create new environments that respond to an aging society's needs (Coughlin, J.F., “Technology Needs of Aging Boomers,” Issues in Science and Technology Online: http://bob.nap.edu/issues/16.1/coughlin.htm, pg. 5, 1999). There is a need for an integrated infrastructure for independent aging that should include a safe home, a productive workplace, personal communications, and lifelong transportation.

The NIDRR Long-Range Plan suggests that aging of the disabled population in conjunction with quality of life issues dictates a particular focus on prevention and alleviation of secondary disabilities and coexisting conditions and on health maintenance over the lifespan. Research in this area must focus on the development and evaluation of environmental options in the built environment and the communications environment, including such approaches as universal design, modular design, and assistive technology that enable individuals with disabilities and society to select the most appropriate means to accommodate or alleviate limitations (NIDRR, Long-Range Plan: 1999-2003, pg. 49).

Home environmental interventions and assistive and universally designed technologies have the potential to increase independence for community-based older persons with disabilities. A new generation of home-based monitoring and communication technologies could enable caregivers at any distance to monitor and respond to the needs of older friends, family, residents, and patients. Systems that make full use of the existing telecommunications infrastructure could be used to ensure that medicine has been taken, that physical functions are normal, and that minor symptoms are not indicators of a larger problem. They could provide early identification of problems that, if left untreated, may result in hospitalization for the individual and higher health care costs to society (Coughlin, J.F., op cit., pg. 7, 1999).

The fact that most older adults choose to remain in their own homes as they age is a cost effective option from a public policy perspective provided that the home can be used as a platform to ensure overall wellness and community integration. For example, introduction of a new generation of appliances, health monitors, and related devices that can safely support independence and remote caregiving could make the home a viable alternative to longterm care for many older adults. Research should go beyond questions of design and physical accessibility to the development of an integrated home that is attractive to us when we are younger and supportive of us as we age (Coughlin, J.F., op cit., pg. 6, 1999).

In the emerging, evolving field of assistive technology, there are gaps in the research. This is particularly true for older adults with disabilities. To create enabling home environments, research is needed on assistive and universally designed technologies and environmental interventions that are safe, affordable, support independence and social participation, and involve the integration of information technology and ergonomic principles. As part of achieving this goal, there is a need to develop appropriate devices that unobtrusively monitor key needs (i.e., taking medications, eating, and drinking), as well as critical events (i.e., falls or stove left on). There is also a need for research to determine the most effective ways to inform professionals, families, and consumers about new and emerging assistive and universally designed technologies, the best ways to use them, and ways to pay for them.

Another important area relates to the needs of older persons with cognitive impairments. This population presents the greatest challenge to creating enabling environments. According to recent findings, individuals with cognitive impairment use the fewest numbers of assistive devices but could benefit from the development of “smart” environments—devices that anticipate needs, suggest (or actually provide) alternatives, and limit the amount of sensory input and/or decision making required (Mann, W., Topics in Geriatric Rehabilitation 8(2), pgs. 35-52, 1993).

Proposed Priority 1: RERC on Technology for Successful Aging

We propose to establish an RERC on technologies for successful aging that will focus on technological solutions to promote the health, safety, independence, active engagement and quality of life of older persons with disabilities. The RERC must:

(a) Identify, assess, and evaluate current and emerging needs, and barriers to meeting those needs, for home-based monitoring and communication technologies that promote heath, independence, and active engagement of older persons with disabilities in the community and with family and friends;

(b) Investigate, develop, and evaluate home-based monitoring and communication technologies to promote health independence, and active engagement of older persons with disabilities;

(c) Investigate, develop, and evaluate technologies that can be used to create “smart” environments that anticipate needs, suggest (or actually provide) alternatives, and limit the amount of sensory input and/or decision making required of older persons with multiple types of impairments, including sensory, mobility, and cognitive;

(d) Identify, develop and evaluate strategies and training materials to promote knowledge about new and existing technologies for use by caregivers, home health providers, case managers and by older persons with disabilities; and

(e) Develop and explore various strategies for strengthening partnerships with industry to facilitate the development of new technologies and applications that are appropriate for use by older persons with multiple types of impairments and functional capabilities.

In addition to activities proposed by the applicant to carry out these purposes, the RERC must:

• Develop and implement in the first year of the grant, and in consultation with the NIDRR-funded National Center for the Dissemination of Disability Research (NCDDR), a plan to disseminate the RERC's research results to all relevant target audiences including, but not limited to, clinicians, engineers, manufacturers, service providers, older persons with disabilities, families, disability organizations, technology service providers, case managers, businesses, and appropriate journals;

• Develop and implement in the first year of the grant, and in consultation with the NIDRR-funded RERC on Technology Transfer, a utilization plan for ensuring that all new and improved technologies developed by this RERC are successfully transferred to the marketplace;

• Conduct in the third year of the grant a state-of-the-science conference on home-based monitoring and communication technologies to promote the health, independence, and active engagement of older persons with disabilities and publish a comprehensive report on the final outcomes of the conference in the fourth year of the grant; and * Collaborate on research projects of mutual interest with NIDRR-funded projects, such as the RERCs on Universal Design and the Built Environment, Mobile Wireless Technologies, Information Technology Access, and Telecommunications Access and the RRTC on Aging with a Disability, as identified through consultation with the NIDRR project officer.

Proposed Priority 2: RERC on Transportation Safety

Background

Americans live in a very mobile society where access to, and use of, public and private transportation services is essential to daily living. There are roughly 1.7 million Americans living outside of institutions who use wheelchairs and scooters (Kaye, H.S., Kang, T., and LaPlante, M.P., “Mobility Device Use in the United States,” Disability Statistics Report, (14), Washington, DC: U.S. Department of Education, NIDRR, June, 2000), including those who rely heavily on public and private transportation services to commute to work and school, participate in recreational activities, and carry out daily activities. The Individuals with Disabilities Education Act (IDEA) requires that children with disabilities, including those who use wheelchairs, must be transported safely to educational settings. The Americans with Disabilities Act of 1990 (ADA) requires that all public and private transportation systems, including trains, buses, and subways be accessible to persons with disabilities, including those who use wheelchairs. (The ADA does not address air transportation and school buses.) However, in a recent report eighty-two percent of wheelchair users stated they have difficulty accessing their local public transportation system (Kaye, H.S., Kang, T., and LaPlante, M.P., “Mobility Device Use in the United States.” Disability Statistics Report, (14), Washington, DC: U.S. Department of Education, NIDRR, June, 2000).

Many wheelchair users are not capable of transferring into a vehicle seat and instead are required to travel seated while in their wheelchairs. However, most wheelchairs are not designed to function as vehicle seats, thus putting wheelchair-seated travelers at greater risk of injury compared to those who sit in standard vehicle seats (Bertocci, G.E., et al., “Computer Simulation and Sled Test Validation of a Powerbase Wheelchair and Occupant Subjected to Frontal Crash Conditions,” IEEE Transactions on Rehabilitation Engineering, Vol. 7, No. 2, pg. 234, June, 1999). Providing effective occupant protection in a motor vehicle is a multifaceted problem that involves the vehicle seat, how the seat is anchored to the vehicle, and an occupant restraint system (seatbelts, airbags, etc). Manufacturers of motor vehicle seats are required to perform extensive testing to ensure that vehicle seating systems are designed and constructed to provide support for the occupant under crash conditions (Department of Transportation, U.S. National Center for Health Statistics, “Federal Motor Vehicle Safety Standards Seating Systems,” U.S. Government Printing Office, Washington, DC, 49 CFR 571.207). However, wheelchairs used as motor vehicle seats are not necessarily designed for such use and must rely upon after-market products to secure or anchor the wheelchair to the vehicle. Unfortunately, tie-down systems are not afforded the same scrutiny as vehicle seating systems thereby increasing the likelihood that the tie-down systems could fail and the wheelchair and its occupant could become a projectile in crash settings.

Laboratory research has dramatically demonstrated the potential danger for wheelchair riders not adequately secured using wheelchair tie-down and restraint systems (WTORS) during vehicle collisions (Benson, J.B. and Schneider, L.W., “Improving the crashworthiness of restraints for handicapped children,” In: Advances in belt restraint systems, design, performance, and usage: Society of Automobile Engineers Technical Paper #840528, Warrandale, PA., pgs. 389-404. 1984). Although there has been an increased awareness about wheelchair rider safety, there is a paucity of information regarding the risk to wheelchair riders while riding in motor vehicles. In an effort to better characterize wheelchair rider risk, an analysis of motor vehicle accident data for the general public was conducted. According to Shaw, the most readily accessible and quantifiable information regarding vehicle accidents involving onboard wheelchairs was found in the National Electronic Injury Surveillance System (NEISS) database that is maintained by the Consumer Product Safety Commission (CPSC). CPSC staff collect information from a sample of 95 (out of an estimated 6,000) hospitals nationwide that are equipped to accommodate emergency visits. Based upon data collected from January 1988 through September 1996, an estimated 1,320 wheelchair riders were injured as a result of vehicle accidents (Shaw, G., “Wheelchair rider risk in motor vehicles: A technical note,” Journal of Rehabilitation Research and Development, Vol. 37, No. 1, Pgs. 89-100, January/February, 2000).

Similar results were found in a different study that looked at NEISS data from 1986 to 1990. In that study, an estimated 2,200 wheelchair riders were injured and the author concluded that “improper securement accidents generally occur when the vehicle stops too quickly or makes a sharp turn.” Furthermore, the author could only find the record of one fatality between 1973 and 1991 that resulted from an occupant falling from the wheelchair due to a sudden stop (Richardson, H.A., “Wheelchair occupants injured in motor vehicle-related accidents,” U.S. Department of Transportation National Center for Statistics and Analysis, Mathematical Analysis Division, Washington, DC, 1991).

Both studies expressed the need for caution when using NEISS data to define wheelchair rider injury risk. Although the NEISS data source provides a perspective regarding the approximate number of incidents and insight as to the kinds of injury-producing situations, it does not provide sufficient specific detail such as a consistent reporting and classification of vehicle type and size (i.e., large, heavy vehicles versus small, lighter vehicles), the WTORS used, and the death and injury rate per unit of exposure. This information is needed to establish the risk and to evaluate the efficiency of risk-reduction efforts (Shaw, G., op cit., 2000).

Voluntary standards have been developed to establish general design and performance requirements for wheelchairs intended to also be used as a vehicle seat and for WTORS. The American National Standards Institute/Rehabilitation Engineering Society of North America (ANSI/RESNA) wheelchair standard (hereafter referred to ANSI/RESNA WC-19) provides wheelchair manufacturers with design and testing guidelines under frontal impact conditions for wheelchairs intended to be used as seats in motor vehicles (American National Standards Institute (ANSI)/Rehabilitation Engineering Society of North America (RESNA), “WC/Volume 1, Section 19: Wheelchairs used as seats in motor vehicles,” RESNA standard, Arlington, VA: RESNA, 2000). Similarly, a standard developed by the Society of Automotive Engineers (SAE J2249) provides guidance for the installation and usage of WTORS (SAE, “SAE J2249: Wheelchair tie-downs and occupant restraints systems for use in motor vehicles,” Society of Automotive Engineers (SAE), 1996).

Although these voluntary standards address the safety needs of wheelchair-seated travelers, there is still much that needs to be accomplished. For instance, the ANSI/RESNA WC-19 standards are used to assess the crashworthiness of complete wheelchair systems through a variety of tests including dynamic frontal impact testing. However, there are no requirements to test the crashworthiness of wheelchair systems under varying impact directions, such as side or rear impact crashes. Studies of both the biomechanics and kinematics of occupants and wheelchairs subjected to side and rear impact crashes could lead to a better understanding of injury risk for wheelchair-seated occupants under these circumstances and improved design criteria and safety standards.

The SAE J2249 standards recommend using four-point, strap-type wheelchair tie-downs for securing wheelchairs to a vehicle. Devices such as these have been used for some time and are effective if the chair is designed to accommodate the strains and is secured properly. However, strap-type tie-downs are cumbersome and time-consuming, warranting the need for development of wheelchair tie-downs that are both safe and easy to operate.

Finally, it is not uncommon for rehabilitation technology professionals to order a wheelchair frame or base from one supplier and add to it a separate seating system or other peripheral device, such as a ventilator, that has been purchased from another supplier. Despite an effort to evaluate the crashworthiness of a wheelchair system using the ANSI/RESNA WC-19 standards, the common practice of adding after-market or customized equipment invalidates the test results of a wheelchair tested with originally manufactured components. Subsequently, the after-market or customized equipment are not subjected to the same dynamic impact testing used on the original wheelchair system to evaluate its ability to withstand crash-level forces (Van Roosmalen, L., et al., “Proposed Test Method for and Evaluation of Wheelchair Seating System (WCSS) Crashworthiness,” Journal of Rehabilitation Research and Development, Vol. 37, No. 5, Pgs. 543-553, September/October, 2000).

Perhaps one of the most successful safety devices introduced by the automobile industry is the safety belt, or occupant restraint system. It is estimated that safety belts save 9,500 lives every year (National Highway Traffic Safety Administration, “America's Experience with Seat Belt and Child Seat Use,” January 2, 2001: www.nhtsa.dot.gov/people/injury/airbags/presbelt/america_seatbelt.html) and many States now make it mandatory for occupants riding in private vehicles to wear safety belts. Traditional vehicle seating systems protect their occupants through properly positioned occupant restraint systems and crashworthy seat design (Department of Transportation, U.S. National Center for Health Statistics, “Federal Motor Vehicle Safety Standards Seating Systems,” U.S. Government Printing Office, Washington, DC, 49 CFR 571.207). Unfortunately, individuals who must remain seated in their wheelchairs while traveling in motor vehicles are unable to benefit from traditional seating systems. According to the SAE J2249 standards, the current practice for wheelchair-seated occupant pelvic restraints (lap belts) is to anchor the belts to the vehicle floor or to rear wheelchair tie-downs. Current practice for the shoulder restraint is to anchor one end of the belt on the vehicle wall or ceiling and the lower end to the pelvic restraint belt (Society of Automotive Engineers, “SAE J2249: Wheelchair tie-downs and occupant restraints (WTORS) for use in motor vehicles,” 1996). ANSI/RESNA WC-19 recommends an additional wheelchair integrated pelvic restraint on wheelchairs that are used in motor vehicles (American National Standards Institute (ANSI)/Rehabilitation Engineering Society of North America (RESNA), “WC/Volume 1, Section 19: Wheelchairs used as seats in motor vehicles,” RESNA Standard, Arlington, VA: RESNA, 2000). However, there are numerous problems associated with anchoring vehicle-mounted occupant restraint systems for wheelchair-seated occupants including, but not limited to, the limited number of anchoring options due to window locations, seating positions, and the vehicle's structural integrity. In addition, all users, regardless of wheelchair models, seat heights, etc., are required to use the same fixed occupant restraint systems that have the potential of compromising safety belt fit, comfort, and occupant safety.

Proposed Priority 2: RERC on Transportation Safety

We propose to establish an RERC on transportation to improve the safety of wheelchair users who remain seated in their wheelchairs while using public and private transportation services and to investigate new wheelchair securement technologies that might enable wheelchair users to independently secure and release the wheelchair without the need for a second person. The RERC must:

(a) Investigate and report on the incidence, extent, and nature of injury of wheelchair riders due to motor vehicle accidents, making a distinction between vehicle size and weight, and include recommendations for ways to minimize injury;

(b) Investigate and report on safety issues, including both kinematics and biomechanics, related to wheelchair-seated occupants subjected to side and rear impact crashes;

(c) Investigate, develop and evaluate universal securement interfaces that would enable wheelchair and scooter users to safely and independently secure their wheelchairs and scooters to motor vehicles;

(d) Investigate and compare methods for dynamically testing the crashworthiness of after-market and customized wheelchair seating systems and peripheral devices and, if found to be viable, develop strategies for integrating these methods into existing voluntary wheelchair performance standards;

(e) Investigate, develop, and evaluate integrated occupant restraint systems that are independent of the vehicle and easy for wheelchair-seated occupants to operate; and

(f) Investigate the use of new or existing voluntary performance standards that would address problems associated with wheelchair-seated occupants subjected to side and rear impact crashes and potential benefits of using integrated occupant restraint systems, universal securement interfaces, and after-market and customized wheelchair seating systems and peripheral devices.

In addition to the activities proposed by the applicant to carry out the purposes, the RERC must:

• Develop and implement in the first year of the grant, and in consultation with the NIDRR-funded National Center for the Dissemination of Disability Research (NCDDR), a plan to disseminate the RERC's research results to clinicians, engineers, manufacturers, persons with disabilities, disability organizations, technology service providers, businesses, and appropriate journals;

• Develop and implement in the first year, and in consultation with the NIDRR-funded RERC on Technology Transfer, a utilization plan for ensuring that all new and improved technologies developed by this RERC are successfully transferred to the marketplace;

• Conduct in the third year of the grant a state-of-the-science conference on wheelchair transportation and publish a comprehensive report on the final outcomes of the conference in the fourth year of the grant;

• Collaborate on research projects of mutual interest with other projects, such as the NIDRR-funded RERC on Wheeled Mobility and the Federal Transit Administration-funded Project Action, as identified through consultation with the NIDRR project officer; and

• Collaborate with relevant Federal agencies responsible for the administration of public laws that address access to and usability of public and private transportation for individuals with disabilities including, but not limited to, the U.S. Department of Transportation's Federal Transit Administration and National Highway Traffic Safety Administration, and other relevant Federal agencies identified by the NIDRR project officer.

Applicable Program Regulations: 34 CFR part 350.

Program Authority: 29 U.S.C. 762(g) and 764(b)(4).

Electronic Access to This Document

You may view this document, as well as all other Department of Education documents published in the Federal Register, in text or Adobe Portable Document Format (PDF) on the Internet at the following site: www.ed.gov/legislation/FedRegister

To use PDF you must have Adobe Acrobat Reader, which is available free at the previous site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html

(Catalog of Federal Domestic Assistance Number: 84.133E, Rehabilitation Engineering Research Center Program)

Dated: April 4, 2001.
Andrew J. Pepin,
Executive Administrator for Special Education and Rehabilitative Services.

[FR Doc. 01-8722 Filed 4-9-01; 8:45 am]

BILLING CODE 4000-01-P